FEDERAL COMMUNICATIONS COMMISSION

[OMB 3060-0017, 3060-1086]

Information Collections Approved by the Office of Management and Budget

AGENCY: Federal Communications Commission.

ACTION: Notice.

SUMMARY: The Federal Communications Commission (FCC) has received Office of Management and Budget (OMB) approval for a revision of a currently approved public information collection pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0017.

OMB Approval Date: March 21, 2016.

OMB Expiration Date: March 31, 2019.

Title: Application for Media Bureau Audio and Video Service Authorization, FCC 2100, Schedule D.

Form Number: FCC Form 2100, Schedule D.

Respondents: Business or other for profit entities; Not for profit institutions; State, local or Tribal government.

Number of Respondents/Responses: 550 respondents; 550 responses.

Estimated Hours per Response: 1.5 hours per response.

Frequency of Response: One time reporting requirement; On occasion reporting requirement.

Total Annual Burden: 825 hours.

Total Annual Cost: $66,446.

Obligation to Respond: Required to obtain benefits. The statutory authority for this information collection is contained in sections 154(i), 301, 303, 307, 308 and 309 of the Communications Act of 1934, as amended.

Nature and Extend of Confidentiality: There is no need for confidentiality with this collection of information.

Privacy Act Assessment: No impact(s).

Needs and Uses: In FCC 15-175, low power television and TV translator stations be permitted to share a channel. FCC Form 2100, Schedule D will be used to license channel sharing between these types of stations. FCC Form 2100, Schedule D was modified to allow applicants to propose that their stations be licensed on a shared basis.

OMB Control Number: 3060-1086.

OMB Approval Date: March 21, 2016.

OMB Expiration Date: March 31, 2019.

Title: Section 74.787 Digital Licensing; § 74.790, Permissible Service of Digital TV Translator and LPTV Stations; § 74.794, Digital Emissions, and § 74.796, Modification of Digital Transmission Systems and Analog Transmission Systems for Digital Operation; § 74.798, LPTV Digital Transition Consumer Education Information, Protection of Analog LPTV.

Form Number: Not applicable.

Respondents: Business or other for profit entities; not for profit institutions; State, local or Tribal government.

Number of Respondents/Responses: 8,445 respondents; 27,386 responses.

Estimated Hours per Response: 0.50-4 hours.

Frequency of Response: Recordkeeping requirement; One-time reporting requirement; Third party disclosure requirement.

Total Annual Burden: 56,386 hours.

Total Annual Cost: $69,033,000.

Obligation to Respond: Required to obtain or retain benefits. The statutory authority for this information collection is contained in section 301 of the Communications Act of 1934, as amended.

Nature and Extent of Confidentiality: There is no need for confidentiality with this collection of information.

Privacy Act Assessment: No impact(s).

Needs and Uses: December 18, 2015, the Commission released a Third Report and Order and Fourth Notice of Proposed Rulemaking, In the Matter of Amendment of Parts 73 and 74 of the Commission's Rules to Establish Rules for Digital Low Power Television and Television Translator Stations, MB Docket No. 03-185, FCC 15-175. This document contains final rules and policies for a digital-to-digital replacement digital replacement translator to permit full power television stations to continue to provide service to viewers that may have otherwise lost service as a result of the station being “repacked” in the Commission's incentive auction process.

47 CFR 74.787(a)(5)(v) states that an application for an digital to digital replacement translator may be filed by a full power television station that can demonstrate that a portion of its digital service area will not be served by its full, post-incentive auction digital facilities. The service area of the replacement translator shall be limited to only a demonstrated loss area.

However, an applicant for a replacement digital television translator may propose a de minimis expansion of its full power pre-transition analog service area upon demonstrating that it is necessary to replace its post-incentive auction digital loss area.

Federal Communications Commission.
Marlene H. Dortch,
Secretary. Office of the Secretary.

[FR Doc. 2016-08440 Filed 4-12-16; 8:45 am]

BILLING CODE 6712-01-P